DEPARTMENT OF VETERANS AFFAIRS

[OMB Control No. 2900-0761]

Agency Information Collection (Health Eligibility Center (HEC) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before February 14, 2014.

ADDRESSES: Submit written comments on the collection of information through www.Regulations.gov or to Office of Information and Regulatory Affairs, Office of Management and Budget, Attn: VA Desk Officer; 725 17th St. NW., Washington, DC 20503 or sent through electronic mail to oira_submission@omb.eop.gov. Please refer to “OMB Control No. 2900-0761” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0761.”

SUPPLEMENTARY INFORMATION:

Titles:

a. Health Eligibility Center (HEC) Correspondence Satisfaction Letter, FL 10-491.

b. Customer Modality Satisfaction Survey, VA Form 10-0151.

OMB Control Number: 2900-0761.

Type of Review: Revision of a currently approved collection

Abstract: The HEC goal is to respond to Veterans correspondence, addressing their concerns in a concise and understandable manner. The correspondence letter will allow Veterans an opportunity to provide anonymous feedback on how well the HEC addressed their concerns. HEC will use Veterans feedback to improve the correspondence process. The Customer Modality Survey will be used to focus on how VA employees assess the needs of Veterans and outline internal processes to improve services prior to Veterans receiving care such as preregistration support and claim processing.

An agency may not conduct or sponsor, and a person is not required to respond to a collection of information unless it displays a currently valid OMB control number. The Federal Register Notice with a 60-day comment period soliciting comments on this collection of information was published on September 16, 2013, at pages 57001-57002.

Affected Public: Individuals and households.

Estimated Annual Burden:

a. VA FL 10-0151—11,551 hours.

b. VA Form 10-491—83,677 hours.

Estimated Average Burden per Respondent:

a. VA FL 10-0151—4.2 minutes.

b. VA Form 10-491—23 minutes.

Frequency of Response:

a. VA FL 10-0151—1.53 annual.

b. VA Form 10-491—1.9 annual.

Estimated Number of Respondents:

a. VA FL 10-0151—107,851.

b. VA Form 10-491—114,889.

Total Annual Responses:

a. VA FL 10-0151-165,012.

b. VA Form 10-491—218,289.

Dated: January 10, 2014.
By direction of the Secretary.
Crystal Rennie,
VA Clearance Officer, Department of Veterans Affairs.

[FR Doc. 2014-00587 Filed 1-14-14; 8:45 am]

BILLING CODE 8320-01-P